FEDERAL ELECTION COMMISSION

Sunshine Act Meetings

TIME AND DATE: Thursday, December 2, 2021 at 10:00 a.m.

PLACE: Virtual hearing. Note: Because of the COVID-19 pandemic, we will conduct the hearing virtually. If you would like to access the hearing, see the instructions below.

STATUS: This hearing will be open to the public. To access the virtual hearing, go to the commission's website www.fec.gov and click on the banner to be taken to the hearing page.

MATTERS TO BE CONSIDERED: Audit Hearing: Democracy Engine, Inc. PAC.

CONTACT PERSON FOR MORE INFORMATION: Judith Ingram, Press Officer; Telephone: (202) 694-1220.

Authority: Government in the Sunshine Act, 5 U.S.C. 552b.

Laura E. Sinram,
Acting Secretary and Clerk of the Commission.

[FR Doc. 2021-25395 Filed 11-17-21; 4:15 pm]

BILLING CODE 6715-01-P